DEPARTMENT OF ENERGY

Federal Energy Regulatory Commission

[Docket Nos. RP04-6-000 and -001]

Enbridge Pipelines (KPC); Notice of Rescheduling of Technical Conference

February 15, 2005.

Take notice that the Commission staff will convene a technical conference on Thursday, March 24, 2005, from 10 a.m. to 5 p.m. (e.s.t.), in a room to be designated at the offices of the Federal Energy Regulatory Commission, 888 First Street, NE., Washington, DC 20426. This conference was originally scheduled for January 26, 2005.

The purpose of the conference is to address the negative deferred fuel account balance and surplus gas on Enbridge Pipelines (KPC) (Enbridge KPC). The Commission directed its staff to convene this technical conference in a December 22, 2004 order on rehearing and establishing technical conference.¹

¹ Enbridge Pipelines (KPC), 109 FERC ¶ 61,346 (2004).

This case began on October 1, 2003, as a result of revised tariff sheets submitted by Enbridge KPC to adjust its fuel reimbursement percentages to reflect changes in its fuel usage and lost and unaccounted for gas (L&U). The revised tariff sheets proposed, among other things, a decrease in the fuel reimbursement percentages (FRPs) that became effective November 1, 2003. Enbridge KPC should be prepared to further explain its proposal, and address the concerns raised in the December 1, 2003, request for rehearing of Kansas Corporation Commission (KCC) and its October 27, 2004, response to Staff's August 27, 2004, data request. For further information regarding this conference please contact Lisa Long at (202) 502-8691 or lisa.long@ferc.gov.

FERC conferences are accessible under section 508 of the Rehabilitation Act of 1973. For accessibility accommodations please send an e-mail to accessibility@ferc.gov or call toll free (866) 208-3372 (voice) or (202) 502-1659 (TTY), or send a FAX to (202) 208-2106 with the required accommodations.

All interested persons are permitted to attend.

Magalie R. Salas,
Secretary.

[FR Doc. E5-726 Filed 2-22-05; 8:45 am]

BILLING CODE 6717-01-P